DEPARTMENT OF THE INTERIOR

Fish and Wildlife Service

[FWS-R1-R-2015-N140; 1265-0000-10137-S3]

Hanford Reach National Monument, Adams, Benton, Franklin and Grant Counties, WA

AGENCY: Fish and Wildlife Service, Interior.

ACTION: Notice of request for comments and public meetings.

SUMMARY: We, the U.S. Fish and Wildlife Service (Service), will hold a 30-day comment period, including two public meetings, to obtain comments on providing public access to the Rattlesnake Mountain Unit, including the summit of Rattlesnake Mountain, within the Hanford Reach National Monument (Monument). In Section 3081 of the Howard P. “Buck” McKeon National Defense Authorization Act for Fiscal Year 2015, the Service is directed to ensure public access to the summit of Rattlesnake Mountain (a.k.a., Laliik) for educational, recreational, historical, scientific, cultural, and other purposes, including motor vehicle access, and pedestrian and other nonmotorized access.

DATES: The public may submit comments from October 15 through November 13, 2015. Two public meetings will be held on October 14, 2015, at 2 p.m. and 7 p.m., see the location under ADDRESSES.

ADDRESSES: More information on public access can be found on our Web site: http://www.fws.gov/refuge/Hanford_Reach/. The two public meetings will be held at the Hanford Reach Interpretive Center, 1943 Columbia Park Trail, Richland, WA 99352. Submit comments on public access to the Rattlesnake Mountain Unit, by any of the following methods:

Email: mcriver@fws.gov. Include “Public Access to Rattlesnake Mountain” in the subject line of the message.

Fax: (509) 546-8303.

U.S. Mail: U.S. Fish and Wildlife Service, Rattlesnake Mountain Access, 64 Maple Street, Burbank, WA 99323.

FOR FURTHER INFORMATION CONTACT: Dan Haas, at (509) 546-8333 (phone), or mcriver@fws.gov (email).

SUPPLEMENTARY INFORMATION: The purpose of the public comment period is to obtain comments and ideas from the public and other interested parties on providing public access to the Monument's Rattlesnake Mountain Unit in a manner that protects unique and sensitive natural, scenic, and cultural resources.

We are furnishing this notice in compliance with the Service's National Wildlife Refuge System planning policy, and the National Environmental Policy Act of 1969 as amended (NEPA; 42 U.S.C. 4321 et seq.), and its implementing regulations. This notice serves to advise other agencies, Tribal governments, and the public of our meetings; initiate the public scoping comment period; and request public comments and information on issues, opportunities, and access alternatives we should consider.

We will consider the comments we receive and issue a scoping report that discusses the issues and opportunities identified during the public comment period, the issues we may or may not further analyze, and the next steps in our process to examine what public access opportunities may be compatible with the purposes of the Monument.

Public Availability of Comments

Before including your address, phone number, email address, or other personal identifying information in your comment, you should be aware that your entire comment—including your personal identifying information—may be made publicly available at any time. While you can ask us in your comment to withhold your personal identifying information from public review, we cannot guarantee that we will be able to do so.

Reasonable Accommodations

The U.S. Fish and Wildlife Service is committed to providing access to this meeting for all participants. Please direct all requests for sign language interpreting services, closed captioning, or other accommodation needs to Dan Haas, (509) 546-8333 (phone); or mcriver@fws.gov (email); or 800-877-8339 (TTY); by close of business on September 30, 2015.

Dated: September 2, 2015.
Richard R. Hannan,
Acting Regional Director, Pacific Region, Portland, OR.

[FR Doc. 2015-24193 Filed 10-6-15; 8:45 am]

BILLING CODE 4310-55-P